DEPARTMENT OF ENERGY

Federal Energy Regulatory Commission

[Project No. 3023-014]

Blackstone Hydro, Inc.; Notice of Application Tendered for Filing With the Commission and Soliciting Additional Study Requests and Establishing Procedural Schedule for Relicensing and a Deadline for Submission of Final Amendments

Take notice that the following hydroelectric application has been filed with the Commission and is available for public inspection.

a. Type of Application: New Major License.

b. Project No.: P-3023-014.

c. Date filed: October 1, 2018.

d. Applicant: Blackstone Hydro, Inc.

e. Name of Project: Tupperware Hydroelectric Project.

f. Location: On the Blackstone River in Providence County, Rhode Island and Worcester County, Massachusetts. No federal lands are occupied by the project works or located within the project boundary.

g. Filed Pursuant to: Federal Power Act 16 U.S.C. 791(a)-825(r).

h. Applicant Contact: Lewis C. Loon, General Manager, Operations and Maintenance—USA/QC, KEI USA Power Management Inc., 423 Brunswick Avenue, Gardiner, ME 04345; Phone at (207) 203-3027, or email at lewis.loon@kruger.com.

i. FERC Contact: Amy Chang at (202) 502-8250, or amy.chang@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: November 30, 2018.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-3023-014.

m. The application is not ready for environmental analysis at this time.

n. Project Description: The existing Tupperware Hydroelectric Project consists of: (1) A 210-foot-long, 12-foot-high arch-type masonry dam and spillway (Tupperware Dam) with 12-inch-high flashboards and a crest elevation of 192.8 feet above mean sea level (msl) at the top of the flashboards; (2) an approximately 2-mile-long impoundment with a normal maximum elevation of 192.8 feet msl; (3) water conveyance structures that consist of: (a) An 1,100-foot-long, 60- to 100-foot-wide power canal located 700 feet upstream of the Tupperware Dam; (b) an 11.5-acre headpond at a normal maximum elevation of 192.8 feet msl; (c) a 300-foot-long, 40-foot-wide headrace canal structure; (d) a 46-foot-long, 16-foot-high headgate dam structure with four 7-foot-high, 8-foot-wide intake gates; and (e) four 8-foot-diameter, 22-foot-long buried penstocks; (4) a concrete and brick powerhouse containing four vertical Francis turbine-generator units with a total authorized capacity of 1,724 kilowatts; (5) a 100-foot-long, 40-foot-wide tailrace channel that discharges into the Blackstone River; (6) outlet work structures located upstream of the headgate dam structure in the headrace canal that consist of: (a) A 37-foot-long, 12-foot-high emergency spillway with a crest elevation of 196 feet msl located at the north end of the headrace; (b) two 5-foot-wide, 5-foot-high outlet gates; (c) a 60-foot-long outlet channel; and (d) two 36-inch-diameter, 150-foot-long concrete conduits that empty into a 190-foot-long, 20-foot-wide channel that discharges into the Blackstone River downstream from the tailrace channel; (7) a 90-foot-long, 4.16-kilovolt (kV) transmission line, a 3,000 kV-amperes step-up transformer, and a 1,300-foot-long, 13.8-kV transmission line connecting the project generators to the regional electric grid; and (8) appurtenant facilities.

The project bypasses approximately 1 mile of the Blackstone River, and there is currently no required minimum instream flow for the bypassed reach. Blackstone Hydro operates the project in a run-of-river (ROR) mode with an annual average generation of approximately 4,027 megawatt-hours.

Blackstone Hydro proposes to: (1) continue operating the project in a ROR mode; (2) provide a year-round minimum flow of 35 cubic feet per second into the bypassed reach; (3) provide upstream eel passage at the project, following installation of an upstream eel passage facility at the downstream Woonsocket Falls Project No. 2972; (4) implement nighttime turbine shutdowns to facilitate downstream eel passage; and (5) develop procedures for operating the outlet gates to address water quality in the power canal.

o. A copy of the application is available for review at the Commission in the Public Reference Room or may be viewed on the Commission's website at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. Procedural schedule and final amendments: The application will be processed according to the following preliminary schedule. Revisions to the schedule will be made as appropriate.

Issue Deficiency Letter (if necessary) | December 2018.
Request Additional Information | December 2018.
Issue Acceptance Letter | March 2019.
Issue Scoping Document 1 for comments | April 2019.
Request Additional Information (if necessary) | June 2019.
Issue Scoping Document 2 | July 2019.
Issue Notice of Ready for Environmental Analysis | July 2019.
Commission issues Environmental Assessment | January 2020.

q. Final amendments to the application must be filed with the Commission no later than 30 days from the issuance date of the notice of ready for environmental analysis.

Dated: October 12, 2018.
Kimberly D. Bose,
Secretary.

[FR Doc. 2018-22728 Filed 10-17-18; 8:45 am]

BILLING CODE 6717-01-P